DEPARTMENT OF DEFENSE

Department of the Army; Corps of Engineers

Availability of the Final Environmental Impact Statement (FEIS) for the Relocation of New River Inlet Ebb Tide Channel Between North Topsail Beach and Onslow Beach, and the Placement of the Dredged Material Along the Ocean Shoreline of North Topsail Beach in Onslow County, NC

AGENCY: Department of the Army, U.S. Army Corps of Engineers, DoD.

ACTION: Notice of availability.

SUMMARY: In accordance with the requirements of the National Environmental Policy Act (NEPA), the U.S. Army Corps of Engineers (COE) Wilmington District, Wilmington Regulatory Field Office announces the availability of a Regulatory Program Final EIS for the North Topsail Beach Shoreline Protection Project. The applicant, The Town of North Topsail Beach, is requesting Department of the Army authorization, pursuant to Section 404 of the Clean Water Act and Section 10 of the Rivers and Harbor Act, to protect residential homes and town infrastructures by nourishing approximately 11.1 miles of beachfront via repositioning the New River Inlet channel, implementing an inlet management plan to control the positioning of the new inlet channel, and utilizing an offshore borrow area. The new channel will be centrally located and the proposal will be to maintain that position, which essentially will be located perpendicular to the adjacent shorelines of North Topsail Beach and Onslow Beach. The proposed sources of the material for the beach nourishment will come from the repositioning of the inlet and an identified offshore borrow area. The projected amount of material needed to initially nourish the oceanfront shoreline is approximately 3.11 million cubic yards. The placement of beach fill along the Town's shoreline would result in the initial widening of the beach by 50 to 100 feet. The widened beach would be maintained through a program of periodic beach nourishment events with the material extracted from the maintenance of the newly relocated channel. All work will be accomplished using a hydraulic cutterhead dredge. The proposed project construction will be conducted in a five phase approach to correspond with the Town's anticipated annual generation of funds.

The ocean shoreline of the Town of North Topsail Beach encompasses approximately 11.1 miles along the northern end of Topsail Island. Of the 11.1 miles, approximately 7.25-miles of the shoreline in the project area, with the exception of two small areas, is located within the Coastal Barrier Resource System (CBRS), which prohibits the expenditure of Federal funds that would encourage development.

The channel through New River Inlet has been maintained by the COE for commercial and recreational boating interest for over 55 years. The COE is authorized to maintain the channel in the inlet to a depth of 6 feet mean low water (mlw) over a width of 90 feet, following the channel thalweg.

DATES: The Public commenting period on the FEIS will end on March 1, 2010. Written comments must be received at the address listed below no later than 5 p.m.

ADDRESSES: Copies of comments and questions regarding the FEIS may be addressed to: U.S. Army Corps of Engineers, Wilmington District, Regulatory Division, ATTN: File Number 2005-0344, 69 Darlington Avenue, Wilmington, NC 28403.

FOR FURTHER INFORMATION CONTACT: Questions about the proposed action and the FEIS can be directed to Mr. Mickey Sugg, Wilmington Regulatory Field Office, telephone: (910) 251-4811, facsimile (910) 251-4025, or e-mail at mickey.t.sugg@saw02.usace.army.mil.

SUPPLEMENTARY INFORMATION: The Town of North Topsail Beach, located along the north-northeast 11.1 miles of Topsail Island in North Carolina, is proposing to nourish the oceanfront shoreline and reposition New River Inlet channel as a means to address a severe erosion problem in order to preserve the Town's tax base, protect its infrastructure, and maintain its tourist oriented economy. The entire stretch of the Town's shoreline has experienced a considerable amount of erosion over the last 20 years due primarily to the impact of numerous tropical storms and hurricanes during the mid to late 1990's and due to impacts of the uncontrolled movement of the main ebb channel in New River Inlet. The Town has stated that the shoreline erosion and residual effects of the storms have left North Topsail Beach in an extremely vulnerable position with regard to its ocean front development and infrastructure. They have estimated that over $250 million in property tax value as well as roads, water and sewer lines, and other utilities are at risk. The stated overall goals and objectives of the project are the following: (1) Long-term stabilization of the oceanfront shoreline located immediately south of New River Inlet, (2) Provide short-term protection to the 31 imminently threatened residential structures over the next zero to five years, (3) Provide long-term protection to Town infrastructure and approximately 1,200 homes, (4) Reduce or mitigate for property damage associated with shoreline erosion along 11.1 miles of oceanfront shoreline of North Topsail Beach, (5) Improve recreational opportunities along the Town's oceanfront shoreline, (6) Ensure material utilized for shore protection is beach compatible, (7) Maintain the Town's tax base by protecting existing development and infrastructure on the oceanfront shoreline of North Topsail Beach, and (8) Balance the needs of the human environment by minimizing and avoiding negative effects to natural resources.

The project is divided into three sections; North, Central, and South. The North Section starts from the inlet shoulder and runs approximately 21,000 linear feet along the ocean shoreline. The Central Section is located both north and south of NC Hwy 210/55 Bridge and is approximately 16,500 linear feet, while the South Section, which is outside of the CBRS designation, includes approximately 20,320 linear feet of shoreline. The Town is proposing to undertake the nourishment along the 11.1 miles of oceanfront in a five phase approach within a dredging window between November 16 and March 31 of any year. The first phase will include the relocation of the inlet channel with the dredged material being used to nourish approximately 9,000 linear feet of shoreline in the North Section. Construction timeline for Phase One will be within the 2010-2011 dredging window. Phase Two would take place during the 2012-2013 dredging window using the offshore borrow source, and will nourish approximately 10,120 linear feet in the North Section. The third phase will include an inlet channel maintenance event and the use of the offshore borrow material to place material along approximately 11,500 linear feet within the southern part of the Central Section. This phase is proposed during the 2014-2015 dredging window. For Phase Four, offshore material will be used to nourish 6,880 linear feet of shoreline in the north part of the Central Section and part of the southern tip of the North Section. This construction will take place in the 2016-2017 dredging window. The final phase of nourishment will encompass the entire South Section, using the offshore borrow site and material from an inlet channel maintenance event, and will be conducted in the 2018-2019 dredging window.

Within the Town's preferred alternative, the relocation of the inlet channel is a main component in the protection of the North Section of the project area. The inlet management plan includes the repositioning the main ocean bar channel to a more southerly alignment along an approximate 150 degree azimuth and maintaining that position and alignment approximately every four years. Maintenance events will be initiated only when established thresholds have been triggered. These maintenance thresholds include the shoaling of 85% of the new channel and/or when the thalweg migrates outside of the constructed 500-foot wide corridor. Initial construction of the new channel and subsequent maintenance events will result in a channel width of 500 feet at −18 foot NAVD depth. The new channel will start within the inlet gorge and will extend approximately 3,500 linear feet southeast breaching through the ocean bar. The amount of material to be extracted during the realignment of the channel is approximately 635,800 cubic yards. The composite mean grain size of the dredged material is approximately 0.32mm, compared to the native beach material at 0.23mm. During additional investigations, it was discovered that an estimated 91,400 cubic yards of the total extracted material is not beach compatible, consisting of clay and shell. This incompatible material will be relocated during the dredging operation to an existing dredge disposal island located at the intersection of the New River and the Atlantic Intracoastal Waterway, approximately 3.0 miles north of the project site.

To supplement the initial beach nourishment construction, material will be dredged from an offshore borrow area. The borrow area is located directly off of the Central Section, and just southwest of the NC Highway 210 bridge. Due to the presence of nearby hardbottom areas, the site is irregularly shaped, with its closest point to the shoreline at approximately 0.4 miles and its furthest offshore point at 1.6 miles. The site is approximately 482 acres in size and is divided into 16 cuts to separate coarse and fine materials. The division of the borrow site into coarser and finer materials resulted in the use of the Point of Intercept Concept or “perched beached” for the placement of material in areas where nearshore hard bottom communities were present. For nourishment in areas within close proximity to nearshore hard bottoms, the beach profiles were designed to use coarser material in order to reduce the fill toe of equilibrium.

The FEIS examines potential impacts to Essential Fish Habitat (EFH), Threatened and Endangered Species, and includes a comprehensive mitigation and monitoring plan and the implementation of specific design measures to minimize potential impacts and to evaluate unforeseen effects of the projects. Several components in the plan include incorporating the Point of Intercept design to reduce the equilibrium beach profile for areas where hardbottom habitats are in close proximity of the shoreline, incorporation of a monitoring plan to verify the Point of Intercept design to ensure its effectiveness, compliance to North Carolina Sediment Criteria Rule for sand compatibility, winter construction period to occur during lower biological activities and to avoid nesting turtle season, use of hydraulic cutterhead dredge and selected pipeline corridors (which will be GPS) to avoid impacts to hardbottom features, monitoring protocol during the placement of dredge material onto the beach to comply with sand compatibility requirements, implementation of a bird and sea turtle monitoring plan, funding of a research initiative for infaunal communities conducted by Carteret County Community College, implementation of an aerial habitat mapping effort for New River Inlet to survey any short- and long-term effects, and the execution of a hardbottom monitoring plan which consists of a geophysical survey using sidescan sonar, underwater investigations that includes habitat characterization and documentation, and sediment monitoring.

Several alternatives have been identified and evaluated through the scoping process, and further detailed description of all alternatives is disclosed in Section 3.0 of the Draft EIS. The applicant's preferred alternative is to relocate the main ocean bar channel to a southerly alignment, implement an inlet management plan, nourish approximately 11.1 miles of ocean shoreline, and to construct the work in a five phase approach.

The COE has initiated consultation with the U.S. Fish and Wildlife Service under the Endangered Species Act and the Fish and Wildlife Coordination Act, and with the National Marine Fisheries Service under the Magnuson-Stevens Act and Endangered Species Act. Additionally, the EIS assesses the potential water quality impacts pursuant to Section 401 of the Clean Water Act, and is coordinated with the North Carolina Division of Coastal Management (DCM) to insure the projects consistency with the Coastal Zone Management Act. The COE has coordinated closely with DCM in the development of the EIS to ensure the process complies with State Environmental Policy Act (SEPA) requirements, as well as the NEPA requirements. The Final EIS has been designed to consolidate both NEPA and SEPA processes to eliminate duplications.

Copies of the Final EIS will also be available on our regulatory homepage at http://www.saw.usace.army.mil/WETLANDS/. Locate North Topsail Beach Shoreline Protection Project under heading “News from the Regulatory Program”, and click on ftp.coastalplanning.net. Type the username: ntb and password: ftp4me to pull up the document.

Brenda S. Bowen,
Army Federal Register Liaison Officer.

[FR Doc. 2010-1819 Filed 1-28-10; 8:45 am]

BILLING CODE 3720-58-P